DEPARTMENT OF THE INTERIOR

National Park Service

[NPS-WASO-NAGPRA-NPS0040231; PPWOCRADN0-PCU00RP14.R50000]

Notice of Inventory Completion: Robbins Museum of Archaeology, Middleborough, MA

AGENCY: National Park Service, Interior.

ACTION: Notice.

SUMMARY: In accordance with the Native American Graves Protection and Repatriation Act (NAGPRA), the Robbins Museum of Archaeology has completed an inventory of human remains and associated funerary objects and has determined that there is a cultural affiliation between the human remains and associated funerary objects and Indian Tribes or Native Hawaiian organizations in this notice.

DATES: Repatriation of the human remains and associated funerary objects in this notice may occur on or after July 3, 2025.

ADDRESSES: Send written requests for repatriation of the human remains and associated funerary objects in this notice to Robbins Museum of Archaeology, c/o Ryan J. Wheeler, Robert S. Peabody Institute of Archaeology, Phillips Academy, 180 Main Street, Andover, MA 01810, email rwheeler@andover.edu.

SUPPLEMENTARY INFORMATION: This notice is published as part of the National Park Service's administrative responsibilities under NAGPRA. The determinations in this notice are the sole responsibility of the Robbins Museum of Archaeology (including the Massachusetts Archaeological Society, its parent organization, and predecessor, the Bronson Museum), and additional information on the determinations in this notice, including the results of consultation, can be found in its inventory or related records. The National Park Service is not responsible for the determinations in this notice.

Abstract of Information Available

Human remains representing, at least, two individuals have been identified. The 86 associated funerary objects are two lots bark; one lot stone slabs; one lot stone plummet; two lots ground stone fishing weights with red ochre; 54 lots stone tools, including points and blades; one lot tubular brass bead; five lots red ochre; one lot bog iron or paint stones; one lot lithic debitage; two lots brass fragments; one lot musket ball; three lots faunal remains; one lot bark and charred bone; one lot braided fiber; two lots latten spoons; one lot metal fishhook; one lot rolled brass beads; one lot ceramic sherds; one lot nutting stones; one lot steatite bowl; one mixed lot stone tools; one mixed lot with glass beads, faunal remains, pottery sherds, bark, stone tools; one mixed lot, powder horn and bone knife handle. The individuals and associated funerary objects were removed from the Titicut site, Bridgewater, Plymouth County, MA by members of the Warren K. Moorehead Chapter of the Massachusetts Archaeological Society between 1946 and 1951. Objects and features found at the site indicate occupation and use of the site from the Early Archaic through the early nineteenth century. One individual was disturbed and removed during earlier excavations in the 1930s by another archaeological society, some individuals were removed by the Robert S. Peabody Institute of Archaeology (see Federal Register notices 60 FR 8733, February 15, 1995 and 88 FR 43385-43386, July 7, 2023), and some individuals were left in place. At least 16 individuals were sent to the Harvard Peabody Museum of Archaeology & Ethnology (see Federal Register notice 68 FR 48626-48634, August 14, 2003).

Human remains representing, at least, 19 individuals have been identified. The 422 associated funerary objects are seven lots charred wood; one lot wooden bowl; three lots pottery and pottery vessels; two lots clay concretion; three lots clam shells with red ochre; three lots faunal remains; one lot bone point; one lot atlatl weight; 77 lots stone burial slabs; 175 lots grave slates or slabs; one lot stone celt; one lot ground stone celt with red ochre; one lot cache stone tools; three lots chopper tools; three lots stone cobbles; four lots stone tool working debitage; two lots stone drills; two lot fire cracked rock; three lots stone fragments; 18 lots ground stone tools; four lots hammerstones; one lot net sinker; one lot nutting stone; three lots pendants; one lot petroglyph, one lot plummet; 33 lots stone points and blades; one lot possible paint stones; two lots stone tool preforms; one lot scraper; one lot steatite vessel sherd; 12 lots stone tools; four lots unidentified stone objects; one lot unidentified lithic object with red ochre stain; one lot semi-rounded lithic object with red ochre stain; one lot brass spoon; 31 lots samples of red ochre; one lot debitage and charred wood; one lot charcoal samples; one lot stone rods; one lot ceremonial blades; two lots stone gouges; two lots quartz fragments; one lot hematite sample; three mixed lots of stone tools and faunal remains. The individuals and associated funerary objects were removed from the Wapanucket site, Middleborough, Plymouth County, MA by members of the Cohannet Chapter of the Massachusetts Archaeological Society between 1946 and the early 1960s. The site includes eight loci along an ancient sand dune, ranging in age from PaleoIndian to more recent occupation. Interments at the site are likely from the Late Archaic (5000 to 3000 BCE). Wampanoag occupation in the area includes the village Nateawamet, the residence of sachem Tuspaquin, as well as occupation by the Wampanoag well into the nineteenth century. The remains of at least seven individuals were transferred to the Harvard Peabody Museum of Archaeology & Ethnology (see Federal Register notice 87 FR 69326-69329, November 18, 2022).

Human remains representing, at least, one individual have been identified. The one associated funerary objects are one stone boar or bear effigy. The circumstances that brought this individual and associated funerary object to the Robbins Museum are currently unknown. The limited information available includes the number “263,” and the indication that the individual originated in eastern or southeastern Massachusetts.

Human remains representing, at least, one individual have been identified. No associated funerary objects are present. The individual was removed from a locale identified as Monomet or Manomet, Plymouth County, MA. Very little information is available about the individual, other than an association with the Bielski Collection and Bielski site ID 944. Edward G. Bielski's collection was donated to the Robbins Museum in the fall of 2010. Bielski was a teacher in Scituate, MA, active member of the Massachusetts Archaeological Society, and collected extensively with Richard H. Bent, a surveyor in Plymouth, MA. Bielski and Bent disturbed sites in Marshfield, Carver, and Plymouth, MA.

Human remains representing, at least, one individual have been identified. No associated funerary objects are present. The individual was removed from the Ponkapoag site, Canton, Norfolk County, MA by members of the South Shore Chapter of the Massachusetts Archaeological Society, who disturbed the site between 1962 through 1966 under the direction of Robert A. Martin. Martin's publication documents the discovery of ancestral remains in one feature described as a “charcoal pit” at the site. The site dates to the Late Archaic, but includes a component from the eighteenth century.

Human remains representing, at least, one individual have been identified. The 13 associated funerary objects are 13 lots of faunal remains and concretion from a shell-bearing site, including remains of dog, red fox, dog or wolf, tortoise, skunk, turkey, deer, harbor seal, whale, quahog, and oyster. The individual and associated funerary objects were removed from a site in Annisquam, Gloucester, Essex County, MA, likely by N. Carleton Phillips or Benjamin Chadwick. Phillips and Chadwick disturbed sites in the Cape Ann area in the 1930s and 1940s and sent individuals and items to local museums. The remains housed at the Robbins Museum are not associated with the individual from Annisquam reported by the Harvard Peabody Museum of Archaeology & Ethnology (see Federal Register notice 87 FR 69317-69326, November 18, 2022).

Human remains representing, at least, three individuals have been identified. No associated funerary objects are present. On two separate occasions, persons unknown left ancestral human remains at the museum. The remains appear to be ancient and of Native American ancestry, and are presumed to be from southeastern Massachusetts.

Seventeen associated funerary objects are one lot botanical samples; one lot faunal remains; one lot stone working debitage; two lots stone fragments; one lot ground stone tools; eight lots stone tools and fragments; three lots red ochre samples. The associated funerary objects were removed from Bear Swamp One (M 39-72), Berkley, Bristol County, MA, which was disturbed by Arthur C. Staples and Roy C. Athearn from 1967 through at least 1969. Staples and Athearn removed one burial (described as Pit #20) in 1968, with the individual sent to the Robbins Museum (then called the Bronson Museum) to be forwarded to Harvard Peabody Museum of Archaeology & Ethnology (see Federal Register notice 68 FR 48626-48634, November 18, 2022). The burial is believed to date to the Late Woodland period (A.D. 1000-1600), though much of the Bear Swamp site dates to the Late Archaic.

Four associated funerary objects are four lots of steatite vessel fragments. In 1961, Arthur C. Lord and members of the Cohannet Chapter of the Massachusetts Archaeological Society removed funerary objects from what was believed to be a cremation feature at the Hawes site, Lakeville, Plymouth County, MA. Documentation at the Robbins Museum indicates that it is possible the associated funerary objects reported here were associated with individuals repatriated in the early 1990s.

Four associated funerary objects are one lot metal chest plates; one lot brass beads; one lot fragment of deerskin; one lot string used in restringing beads. The associated funerary objects were removed at an unknown date by Maurice Robbins from a burial or burials in the vicinity of Gardner's Neck Road, Swansea, Bristol County, MA. Robbins sent some of the associated funerary objects to the Robert S. Peabody Institute of Archaeology in 1941 (see Federal Register notice 70 FR 16840-16841, April 1, 2005). In June 1955, Maurice Robbins disturbed an additional Native American burial on the property of Mr. Foley on Gardner's Neck Road, which Robbins described as the “very heart of the ancient land of the Wampanoag.” Documentation at the Robbins Museum indicates that it is possible the associated funerary objects reported here were associated with individuals repatriated in the early 1990s.

One associated funerary object is one lot ceremonial stone blade. The circumstances that brought this associated funerary object to the Robbins Museum are currently unknown, though museum records indicate they were removed from a cranberry bog at Jackson Brook, Billington Sea, Plymouth County, MA. It is possible that the blade is part of William Whiting's collection, who was active in collecting Native American objects in the 1940s and 1950s. Documentation at the Robbins Museum indicates that it is possible the associated funerary objects reported here were associated with individuals repatriated in the early 1990s.

One associated funerary object is one lot of kaolin ceramic pipe bowls. The circumstances that brought these associated funerary objects to the Robbins Museum are currently unknown, though museum records indicate that they are from Nantucket, Nantucket County, MA. Documentation at the Robbins Museum indicates that it is possible the associated funerary objects reported here were associated with individuals repatriated in the early 1990s.

Five associated funerary objects are two lots stone points and blades; two lots stone working debitage; one lot ceremonial blade preform of felsite. The circumstances that brought these associated funerary objects to the Robbins Museum are currently unknown, though they are believed to be from eastern or southeastern Massachusetts. The associated funerary objects are described in museum records as part of the Salloway collection, possibly a reference to the name of the collector. Documentation at the Robbins Museum indicates that it is possible the associated funerary objects reported here were associated with individuals repatriated in the early 1990s.

Seven associated funerary objects are one lot textile fibers; two lots charred botanical remains; one lot wampum; two lots brass buttons or beads; one lot woven basket or mat fragments. The associated funerary objects were removed from the Taylor Farm, North Middleborough, Plymouth County, MA by William B. Taylor. Taylor's 1982 article and documentation at the museum indicate that the Taylor Farm includes large numbers of Native American interments, with occupation from the Archaic into the eighteenth century. Burials with European colonial objects dominate the burials excavated on the property, though cremation burials of the Late Archaic were found as well. The funerary objects held by the Robbins Museum may be from Taylor's Burial 4 and 5. Also see the NAGPRA notice published by Harvard Peabody Museum of Archaeology & Ethnology (see Federal Register notice 87 FR 69326-69329, November 18, 2022), which indicates that Maurice Robbins and William B. Taylor removed ancestral remains at the site in 1947 and transferred those individuals to Harvard.

Two associated funerary objects are one lot antler flaker; one lot brass kettle with iron handle. The circumstances that brought these associated funerary objects to the Robbins Museum are currently unknown. Museum records indicate that these associated funerary objects are “from contact period burial, site is unknown,” in eastern or southeastern Massachusetts. Documentation at the Robbins Museum indicates that it is likely the associated funerary objects reported here were associated with individuals repatriated in the early 1990s.

Six associated funerary objects are one lot mammal bone fragment; one lot kaolin ceramic pipe stem fragment; four lots brass hooks, spoons, tools and ornaments, points. The circumstances that brought these associated funerary objects to the Robbins Museum are currently unknown. Museum records indicate that these associated funerary objects originated from an unknown site in eastern or southeastern Massachusetts. Documentation at the Robbins Museum indicates that it is likely the associated funerary objects reported here were associated with individuals repatriated in the early 1990s.

The Robbins Museum of Archaeology does not have any record that the ancestral human remains or associated funerary objects described above have been treated with pesticides or other potentially hazardous substances.

Cultural Affiliation

Based on the information available and the results of consultation, cultural affiliation is clearly identified by the information available about the human remains and associated funerary objects described in this notice.

Determinations

The Robbins Museum of Archaeology has determined that:

• The human remains described in this notice represent the physical remains of 28 individuals of Native American ancestry.

• The 569 objects described in this notice are reasonably believed to have been placed intentionally with or near individual human remains at the time of death or later as part of the death rite or ceremony.

• There is a connection between the human remains and associated funerary objects described in this notice and the Mashpee Wampanoag Tribe and the Wampanoag Tribe of Gay Head (Aquinnah).

Requests for Repatriation

Written requests for repatriation of the human remains and associated funerary objects in this notice must be sent to the authorized representative identified in this notice under ADDRESSES. Requests for repatriation may be submitted by:

1. Any one or more of the Indian Tribes identified in this notice and, if joined to a request from one or more of the Indian Tribes, the Assonet Band of the Wampanoag Nation, a non-federally recognized Indian group.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 3, 2025. If competing requests for repatriation are received, the Robbins Museum of Archaeology must determine the most appropriate requestor prior to repatriation. Requests for joint repatriation of the human remains and associated funerary objects are considered a single request and not competing requests. The Robbins Museum of Archaeology is responsible for sending a copy of this notice to the Indian Tribes and Native Hawaiian organizations identified in this notice.

Authority: Native American Graves Protection and Repatriation Act, 25 U.S.C. 3003, and the implementing regulations, 43 CFR 10.10.

Dated: May 21, 2025.
Melanie O'Brien,
Manager, National NAGPRA Program.

[FR Doc. 2025-10020 Filed 6-2-25; 8:45 am]

BILLING CODE 4312-52-P